DEPARTMENT OF VETERANS AFFAIRS

[OMB Control No. 2900-0757]

Agency Information Collection Activity Under OMB Review: Supportive Services for Veteran Families (SSVF) Program—Grant Application & Report

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0757.

FOR FURTHER INFORMATION CONTACT: Maribel Aponte, Office of Enterprise and Integration, Data Governance Analytics (008), 1717 H Street NW, Washington, DC 20006, (202) 266-4688 or email maribel.aponte@va.gov. Please refer to “OMB Control No. 2900-0757” in any correspondence.

SUPPLEMENTARY INFORMATION:

Authority: 44 U.S.C. 3501-21.

Title: Supportive Services for Veteran Families (SSVF) Program—Grant Application & Report, VA Forms 10-10072, 10-10072a, 10-10072b and 10-10072c.

OMB Control Number: 2900-0757.

Type of Review: Reinstatement of a previously approved collection.

Abstract: The purpose of the Supportive Services for Veteran Families (SSVF) Program is to provide supportive services grants to private non-profit organizations and consumer cooperatives who will coordinate or provide supportive services to very low-income veteran families who are residing in permanent housing, are homeless and scheduled to become residents of permanent housing within a specified time period, or after exiting permanent housing, are seeking other housing that is responsive to such very low-income veteran family needs and preferences. The following VA forms are included in this collection, as well as templates and a certification that do not require PRA clearances.

a. Application for Supportive Services Grants, VA Form 10-10072

b. Participant Satisfaction Survey, VA Form 10-10072a

c. Quarterly Grantee Performance Report, VA Form 10-10072b

d. Renewal Application, VA Form 10-10072c

e. Applicant Budget Template

f. Financial Report Template

g. Grantee Certification

An agency may not conduct or sponsor, and a person is not required to respond to a collection of information unless it displays a currently valid OMB control number. The Federal Register Notice with a 60-day comment period soliciting comments on this collection of information was published at 86 FR 133 on July 15, 2021, page 37406.

Affected Public: Individuals or Households.

Estimated Annual Burden: 25,505 hours.

Estimated Average Burden per Respondent: 125 minutes.

Frequency of Response: Average of twice annually.

Estimated Number of Respondents: 12,270.

By direction of the Secretary:
Maribel Aponte,
VA PRA Clearance Officer, Office of Enterprise and Integration, Data Governance Analytics, Department of Veterans Affairs.

[FR Doc. 2021-23133 Filed 10-22-21; 8:45 am]

BILLING CODE 8320-01-P